DEPARTMENT OF THE TREASURY

Alcohol and Tobacco Tax and Trade Bureau

Proposed Information Collections; Comment Request

AGENCY: Alcohol and Tobacco Tax and Trade Bureau; Treasury.

ACTION: Notice and request for comments.

SUMMARY: As part of our continuing effort to reduce paperwork and respondent burden, and as required by the Paperwork Reduction Act of 1995, we invite comments on the proposed or continuing information collections listed below in this notice.

DATES: We must receive your written comments on or before April 23, 2012.

ADDRESSES: You may send comments to Mary A. Wood, Alcohol and Tobacco Tax and Trade Bureau, at any of these addresses:

• P.O. Box 14412, Washington, DC 20044-4412;

• 202-453-2686 (facsimile); or

• formcomments@ttb.gov (email).

Please send separate comments for each specific information collection listed below. You must reference the information collection's title, form or recordkeeping requirement number, and OMB number (if any) in your comment. If you submit your comment via facsimile, send no more than five 8.5 x 11 inch pages in order to ensure electronic access to our equipment.

FOR FURTHER INFORMATION CONTACT: To obtain additional information, copies of the information collection and its instructions, or copies of any comments received, contact Mary A. Wood, Alcohol and Tobacco Tax and Trade Bureau, P.O. Box 14412, Washington, DC 20044-4412; or telephone 202-453-2265.

SUPPLEMENTARY INFORMATION:

Request for Comments

The Department of the Treasury and its Alcohol and Tobacco Tax and Trade Bureau (TTB), as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please not do include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following forms and recordkeeping requirements:

Title: Excise Tax Return.

OMB Control Number: 1513-0083.

TTB Form Number: 5000.24.

Abstract: Businesses report their Federal excise tax liability on distilled spirits, wine, beer, tobacco products, and cigarette papers and tubes on TTB F 5000.24. TTB needs this form to identify the taxpayer and to determine the amount and type of taxes due and paid.

Current Actions: We are submitting this information collection as a revision. Changes in the supporting statement reflect changes to section numbers as recodified in the final rule for the revision of 27 CFR part 19, Distilled Spirits Plants. The information collection instrument, estimated number of respondents, and estimated total annual burden hours remain unchanged.

Type of Review: Revision of a currently approved collection.

Affected Public: Business or other for-profit.

Estimated Number of Respondents: 30,000.

Estimated Total Annual Burden Hours: 22,500.

Title: Labeling and Advertising Requirements under the Federal Alcohol Administration Act.

OMB Control Number: 1513-0087.

TTB Recordkeeping Number: 5100/1.

Abstract: Bottlers and importers of alcohol beverages must adhere to numerous performance standards for statements made on labels and in advertisements of alcohol beverages. These performance standards include minimum mandatory labeling and advertising statements.

Current Actions: We are submitting this information collection for extension purposes only. The information collection, estimated number of respondents, and estimated total annual burden hours remain unchanged.

Type of Review: Extension of a currently approved collection.

Affected Public: Business or other for-profit.

Estimated Number of Respondents: 6,060.

Estimated Total Annual Burden Hours: 6,060.

Title: Beer for Exportation.

OMB Number: 1513-0114.

TTB Form Number: 5130.12.

Abstract: Untaxpaid beer may be removed from a brewery for exportation without payment of the excise tax normally due on removal. In order to ensure that exportation took place as claimed and that untaxpaid beer does not reach the domestic market, TTB requires certification on TTB F 5130.12.

Current Actions: We are submitting this information collection for extension purposes only. The information collection, estimated number of respondents, and estimated total annual burden hours remain unchanged.

Type of Review: Extension of a currently approved collection.

Affected Public: Business or other for-profit.

Estimated Number of Respondents: 60.

Estimated Total Annual Burden Hours: 5,940.

Title: Usual and Customary Business Records Relating to Wine.

OMB Number: 1513-0115.

TTB Recordkeeping Number: 5120/1.

Abstract: TTB routinely inspects wineries' usual and customary business records to ensure the proper payment of wine excise taxes due to the Federal Government. TTB believes that regulated individuals cannot succeed in business without maintaining these records which control the manufacture and sale of wine.

Current Actions: We are submitting this information collection for extension purposes only. The information collection, estimated number of respondents, and estimated total annual burden hours remain unchanged.

Type of Review: Extension of a currently approved collection.

Affected Public: Business or other for-profit.

Estimated Number of Respondents: 4,676.

Estimated Total Annual Burden Hours: 468.

Title: Bond for Drawback under 26 U.S.C. 5131.

OMB Control Number: 1513-0116.

TTB Form Number: 5154.3.

Abstract: Businesses that use taxpaid alcohol to manufacture nonbeverage products may file a claim for drawback (refund or remittance). Claims may be filed monthly or quarterly. Monthly claimants must file a bond on TTB F 5154.3 to protect the Government's interest.

Current Actions: We are submitting this information collection for extension purposes only. The information collection, estimated number of respondents, and estimated total annual burden hours remain unchanged.

Type of Review: Extension of a currently approved collection.

Affected Public: Business or other for-profit.

Estimated Number of Respondents: 52.

Estimated Total Annual Burden Hours: 10.

Title: Labeling of Major Food Allergens.

OMB Control Number: 1513-0121.

TTB Recordkeeping/Form Number: None.

Abstract: This collection of information requires labeling of major food allergens used in the production of alcohol beverages and corresponds to the amendments to the Food, Drug and Cosmetics Act (FD&C Act) in Title II of Public Law 108-282, 118 Stat. 905.

Current Actions: We are submitting this information collection for extension purposes only. The information collection, estimated number of respondents, and estimated total annual burden hours remain unchanged.

Type of Review: Extension of a currently approved collection.

Affected Public: Business or other for-profit.

Estimated Number of Respondents: 5,000.

Estimated Total Annual Burden Hours: 3,700.

Title: Formula and Process for Alcohol Beverages.

OMB Control Number: 1513-0122.

TTB Form Number: 5100.51.

Abstract: TTB F 5100.51 is used to determine the classification of distilled spirits, wine, and malt beverages for labeling and for consumer protection. The form describes the person filing, the type of product to be made, and restrictions to the label and/or manufacturing process. The form will be used by TTB to ensure that a product is made and labeled properly and to audit distilled spirits, wine, and malt beverage operations. Records are kept indefinitely for this information collection. TTB uses this form in its Formulas ON Line (FONL) system. TTB only predicts a slight reduction in the burden, as a result of a reduction in the time it takes to complete and submit this form using FONL; however, as the popularity of the system increases, TTB expects an additional decrease in the burden hours.

Current Actions: We are submitting this information collection as a revision, as a result of the change in the burden.

Type of Review: Revision of a currently approved collection.

Affected Public: Business or other for-profit.

Estimated Number of Respondents: 1,000.

Estimated Total Annual Burden Hours: 7,640.

Dated: February 17, 2012.
Angela Jeffries,
Deputy Director, Regulations and Rulings Division.

[FR Doc. 2012-4242 Filed 2-22-12; 8:45 am]

BILLING CODE 4810-31-P